DEPARTMENT OF EDUCATION

Applications for New Awards; Language Resource Centers Program

AGENCY: Office of Postsecondary Education, Department of Education.

ACTION: Notice.

SUMMARY: The Department of Education is issuing a notice inviting applications for fiscal year (FY) 2022 for the Language Resource Centers (LRC) Program, Assistance Listing Number 84.229A. This notice relates to the approved information collection under OMB control number 1840-0808.

DATES:

Applications Available: February 23, 2022.

Deadline for Transmittal of Applications: April 25, 2022.

Deadline for Intergovernmental Review: June 23, 2022.

Preapplication Webinar information: The Department will hold a preapplication meeting via webinar for prospective applicants. Detailed information regarding this webinar will be provided on the LRC Applicant Information website at www2.ed.gov/programs/iegpslrc/applicant.html.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Carolyn Collins, U.S. Department of Education, 400 Maryland Avenue SW, Room 2B234, Washington, DC 20202. Telephone: (202)453-7854. Email: carolyn.collins@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The LRC Program provides grants to institutions of higher education (IHEs) or consortia of IHEs for establishing, strengthening, and operating centers that serve as resources for improving the Nation's capacity for teaching and learning foreign languages through teacher training, research, materials development, assessment, and dissemination projects.

Priorities: This notice includes one absolute priority and one competitive preference priority. In accordance with 34 CFR 75.105(b)(2)(ii), the absolute priority is from 34 CFR 669.22(a)(2). The competitive preference priority is from the Secretary's Final Supplemental Priorities and Definitions for Discretionary Grant Programs published in the Federal Register on December 10, 2021 (86 FR 70612) (Supplemental Priorities).

Absolute Priority: For FY 2022 and any subsequent year in which we make awards from the list of unfunded applications from this competition, this priority is an absolute priority. Under 34 CFR 75.105(c)(3), we consider only applications that meet this priority.

The priority is:

Specific Foreign Languages for Study or Materials Development.

Background: Under 34 CFR 669.22(a)(2), the Department may establish a priority for specific foreign languages for study or materials development. For the absolute priority, we took into consideration the findings in the Modern Language Association (MLA) survey ¹ of fall 2016 undergraduate and graduate enrollments in language courses at 2,547 postsecondary institutions in the United States. Of 1,417,921 total enrollments, the three most-studied modern foreign languages included Spanish, with 712,240 enrollments or 50 percent; French, with 175,667 enrollments or 12 percent; and German, with 80,594 enrollments or 6 percent. Together, these three languages represented 968,501, or 68 percent, of enrollments. Other languages, with 34,830 enrollments, constituted 25 percent of enrollments for the same period.

¹ Modern Language Association, “Enrollments in Languages Other Than English in United States Institutions of Higher Education, Summer 2016 and Fall 2016: Preliminary Report” (February, 2018) (p 13).

The findings in the MLA survey are consistent with the definition of “Less Commonly Taught Languages” (LCTLs) used by the Center for Advanced Research on Language Acquisition (CARLA).² CARLA defines LCTLs as “all of the world's languages except English, French, German, and Spanish.”

² Center for Advanced Research on Language Acquisition, University of Minnesota. www.carla.umn.edu

Priority: Applications that propose activities with a significant focus on the teaching and learning of any modern foreign languages except French, German, and Spanish.

Competitive Preference Priority: For FY 2022 and any subsequent year in which we make awards from the list of unfunded applications from this competition, this priority is a competitive preference priority. Under 34 CFR 75.105(c)(2)(i), we award up to an additional five points to an application that meets the Competitive Preference Priority.

This priority is:

Promoting Equity in Student Access to Educational Resources and Opportunities (up to 5 points).

Projects that will be implemented by or in partnership with one or more of the following entities:

(1) Community colleges (as defined in this notice).

(2) Historically Black colleges and universities (as defined in this notice).

(3) Tribal Colleges and Universities (as defined in this notice).

(4) Minority-serving institutions (as defined in this notice).

Definitions: The definitions below are from the Supplemental Priorities.

Community college means “junior or community college” as defined in section 312(f) of the Higher Education Act of 1965, as amended (HEA).

Historically Black Colleges and Universities means colleges and universities that meet the criteria set out in 34 CFR 608.2.

Minority-Serving Institution means an institution that is eligible to receive assistance under sections 316 through 320 of part A of title III, under part B of title III, or under title V of the HEA.

Tribal College or University has the meaning ascribed it in section 316(b)(3) of the HEA.

Note: The institutions designated eligible under title III and title V may be viewed at the following link: www2.ed.gov/about/offices/list/ope/idues/eligibility.html.

Program Authority: 20 U.S.C. 1121, 1123.

Note: Projects will be awarded and must be operated in a manner consistent with the nondiscrimination requirements contained in Federal civil rights laws.

Applicable Regulations: (a) The Education Department General Administrative Regulations in 34 CFR parts 75, 77, 79, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 655 and 669. (e) The Supplemental Priorities.

Note: The regulations in 34 CFR part 86 apply to IHEs only.

Areas of National Need: In accordance with section 601(c) of the HEA, 20 U.S.C. 1121(c), the Secretary consulted with a wide range of Federal agencies and received recommendations regarding national need for expertise in foreign language and world regions. These agencies' recommendations may be viewed at www2.ed.gov/about/offices/list/ope/iegps/languageneeds.html.

II. Award Information

Type of Award: Discretionary grants.

Estimated Available Funds: $2,746,768.

The Administration has requested $2,746,768 for new awards for this program for FY 2022. The actual level of funding, if any, depends on final congressional action. However, we are inviting applications to allow enough time to complete the grant process before the end of the current fiscal year if Congress appropriates funds for this program.

Contingent upon the availability of funds and the quality of applications, we may make additional awards in FY 2023, FY 2024, and FY 2025 from the list of unfunded applications from this competition.

Estimated Range of Awards: $130,000-$197,000 per year.

Estimated Average Size of Awards: $171,000 per year.

Estimated Number of Awards: 16.

Note: The Department is not bound by any estimates in this notice.

Project Period: Up to 48 months.

III. Eligibility Information

1. Eligible Applicants: IHEs (as defined in section 101 of the HEA (20 U.S.C. 1001)) or consortia of IHEs.

2. a. Cost Sharing or Matching: This program does not require cost sharing or matching.

b. Indirect Cost Rate Information: This program uses a training indirect cost rate. This limits indirect cost reimbursement to an entity's actual indirect costs, as determined in its negotiated indirect cost rate agreement, or eight percent of a modified total direct cost base, whichever amount is less. For more information regarding training indirect cost rates, see 34 CFR 75.562. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations, professional organizations, or businesses. The grantee may award subgrants to entities it has identified in the approved application or that it selects through a competition under procedures established by the grantee.

4. a. Reasonable and Necessary Costs: Applicants must ensure that all costs included in the proposed budget are reasonable and necessary to meet the goals and objectives of the proposed project. Any costs determined by the Secretary to be unreasonable or unnecessary will be removed from the final approved budget.

b. Audits: (i) A non-Federal entity that expends $750,000 or more during the non-Federal entity's fiscal year in Federal awards must have a single or program-specific audit conducted for that year in accordance with the provisions of 2 CFR part 200. (2 CFR 200.501(a))

(ii) A non-Federal entity that expends less than $750,000 during the non-Federal entity's fiscal year in Federal awards is exempt from Federal audit requirements for that year, except as noted in 2 CFR 200.503 (Relation to Other Audit Requirements), but records must be available for review or audit by appropriate officials of the Federal agency, pass-through entity, and Government Accountability Office (GAO). (2 CFR 200.501(d)).

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the LRC grant competition, your application may include business information that you consider proprietary. In 34 CFR 5.11 we define “business information” and describe the process we use in determining whether any of that information is proprietary and, thus, protected from disclosure under Exemption 4 of the Freedom of Information Act (5 U.S.C. 552, as amended). We plan to post on our website a selection of funded abstracts and applications' narrative sections.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is subject to Executive Order 12372 and the regulations in 34 CFR part 79. Information about Intergovernmental Review of Federal Programs under Executive Order 12372 is in the application package for this program.

4. Funding Restrictions: We specify unallowable costs in 34 CFR 669.30. We reference additional regulations outlining funding restrictions in the Applicable Regulations section of this notice.

5. Recommended Page Limit: The application narrative (Part III of the application) is where you, the applicant, address the priorities, selection criteria, and application requirements that reviewers use to evaluate your application. We recommend that you (1) limit the application narrative to no more than 50 pages and (2) use the following standards:

• A “page” is 8.5″ x 11″, on one side only, with 1″ margins at the top, bottom, and both sides.

• Double space (no more than three lines per vertical inch) all text in the application narrative, except titles, headings, footnotes, quotations, references, and captions, as well as all text in charts, tables, figures, and graphs.

• Use a font that is either 12 point or larger or no smaller than 10 pitch (characters per inch). However, you may use a 10 point font in charts, tables, figures, and graphs.

• Use one of the following fonts: Times New Roman, Courier, Courier New, or Arial.

The recommended page limit applies to the entirety of the application narrative. The recommended page limit does not apply to the Application for Federal Assistance face sheet (SF 424); the supplemental SF 424 form; Budget Information—Non-Construction Programs (ED 524); the detailed line-item budget; the assurances and certifications, and the response to section 427 of the General Education Provisions Act; the project abstract; the table of contents; or the appendices.

6. Award Basis: In determining whether to approve a grant award and the amount of such award, the Department will take into consideration, among other things, the applicant's performance and use of funds under a previous or existing award under any Department program (34 CFR 75.217(d)(3)(ii) and 75.233(b)). In assessing the applicant's performance and use of funds under a previous or existing award, the Secretary will consider, among other things, the outcomes the applicant has achieved and the results of any Departmental grant monitoring, including the applicant's progress in remedying any deficiencies identified in such monitoring.

V. Application Review Information

1. Selection Criteria: The following selection criteria for this program are from 34 CFR 655.31 and 669.21. The maximum score under the selection criteria, taken together with the maximum number of points awarded to applicants that address the competitive preference priority, is 105 points. The maximum score for each selection criterion is indicated in parentheses below.

(a) Plan of Operation (up to 15 points).

The Secretary reviews each application for information that shows the quality of the plan of operation for the project.

The Secretary looks for information that shows—

(1) High quality in the design of the project;

(2) An effective plan of management that ensures proper and efficient administration of the project;

(3) A clear description of how the objectives of the project relate to the purpose of the program;

(4) The way the applicant plans to use its resources and personnel to achieve each objective; and

(5) A clear description of how the applicant will provide equal access and treatment for eligible project participants who are members of groups that have been traditionally underrepresented, such as—

(i) Members of racial or ethnic minority groups;

(ii) Women; and

(iii) Handicapped persons.

(b) Quality of Key Personnel (up to 10 points).

The Secretary reviews each application for information that shows the quality of the key personnel the applicant plans to use on the project.

(1) The Secretary looks for information that shows—

(a) The qualifications of the project director (if one is to be used);

(b) The qualifications of each of the other key personnel to be used in the project. In the case of faculty, the qualifications of the faculty and the degree to which that faculty is directly involved in the actual teaching and supervision of students;

(c) The time that each person referred to in paragraphs (b)(1)(a) and (b) of this section plans to commit to the project; and

(d) The extent to which the applicant, as part of its nondiscriminatory employment practices, encourages applications for employment from persons who are members of groups that have been traditionally underrepresented, such as members of racial or ethnic minority groups, women, handicapped persons, and the elderly.

(2) To determine the qualifications of a person, the Secretary considers evidence of past experience and training, in fields related to the objectives of the project, as well as other information that the applicant provides.

(c) Budget and Cost-Effectiveness (up to 10 points).

The Secretary reviews each application for information that shows that the project has an adequate budget and is cost effective.

The Secretary looks for information that shows—

(1) The budget for the project is adequate to support the project activities; and

(2) Costs are reasonable in relation to the objectives of the project.

(d) Evaluation Plan (up to 20 points).

The Secretary reviews each application for information that shows the quality of the evaluation plan for the project.

The Secretary looks for information that shows methods of evaluation that are appropriate for the project and, to the extent possible, are objective and produce data that are quantifiable.

(e) Adequacy of Resources (up to 5 points).

The Secretary reviews each application for information that shows that the applicant plans to devote adequate resources to the project.

The Secretary looks for information that shows—

(1) Other than a library, facilities that the applicant plans to use are adequate (language laboratory, museums, etc.); and

(2) The equipment and supplies that the applicant plans to use are adequate.

(f) Need and Potential Impact (up to 20 points).

The Secretary reviews each application to determine--

(1) The extent to which the proposed materials or activities are needed in the foreign languages on which the project focuses;

(2) The extent to which the proposed materials may be used throughout the United States; and

(3) The extent to which the proposed work or activity may contribute significantly to strengthening, expanding, or improving programs of foreign language study in the United States.

(g) Likelihood of Achieving Results (up to 10 points).

The Secretary reviews each application to determine—

(1) The quality of the outlined methods and procedures for preparing the materials; and

(2) The extent to which plans for carrying out activities are practicable and can be expected to produce the anticipated results.

(h) Description of Final Form of Results (up to 10 points).

The Secretary reviews each application to determine the degree of specificity and the appropriateness of the description of the expected results from the project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

For the FY 2022 LRC competition, all applications will be assigned to peer review panels. Readers who serve on the peer review panels are selected based on their expertise in the specialized area studies, international studies, and modern foreign language(s) necessary to effectively review, score, and rank the applications assigned to them.

The Department will select applications for funding consideration based on their ranking in the competition. In cases where the peer reviewers' average scores are the same for two or more applications same in the rank order listing, but there are insufficient funds to support all of the equally ranked applications, the Department will use the scores assigned to selection criterion (f): Need and Potential Impact to break the tie.

3. Risk Assessment and Specific Conditions: Consistent with 2 CFR 200.206, before awarding grants under this program the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management (SAM). You may review and comment on any information about yourself that a Federal agency previously entered and that is currently in FAPIIS.

Please note that if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170, should you receive funding under the competition. This does not apply if you have an exception under 2 CFR 170.110(b).

(b) At the end of your project period, you must submit a final performance report, including financial information, as directed by the Secretary. If you receive a multiyear award, you must submit an annual performance report that provides the most current performance and financial expenditure information as directed by the Secretary in 34 CFR 75.118. The Secretary may also require more frequent performance reports under 34 CFR 75.720(c). For specific requirements on reporting, please go to www.ed.gov/fund/grant/apply/appforms/appforms.html.

Performance reports for the LRC Program must be submitted electronically into the office of International and Foreign Language (IFLE) web-based reporting system, International Resource Information System (IRIS). For information about IRIS and to view the reporting instructions, please go to https://iris.ed.gov/iris/pdfs/LRC.pdf.

(c) Under 34 CFR 75.250(b), the Secretary may provide a grantee with additional funding for data collection analysis and reporting. If a grantee is provided additional funding for this purpose, the Secretary establishes a data collection period.

5. Performance Measures: The following measures have been established for the purpose of Department reporting under 34 CFR 75.110, and will be used to evaluate the success of the LRC Program:

(a) Percentage of LRC products or activities judged to be successful by LRC customers with respect to quality, usefulness and relevance.

(b) Percentage of LRC products judged to be successful by an independent expert review panel with respect to quality, usefulness and relevance.

(c) Cost per LRC project that increased the number of training programs for K-16 instructors of LCTLs (efficiency measure).

The information provided by grantees in their performance reports submitted via the IRIS reporting system will be the source of data for these measures. Reporting screens for institutions can be viewed at: http://iris.ed.gov/iris/pdfs/LRC.pdf.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations via the Federal Digital System at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Michelle Asha Cooper,
Deputy Assistant Secretary for Higher Education Programs, Delegated the Authority to Perform the Functions and Duties of the Assistant Secretary, Office of Postsecondary Education.

[FR Doc. 2022-03789 Filed 2-22-22; 8:45 am]

BILLING CODE 4000-01-P